DEPARTMENT OF EDUCATION

Applications for New Awards; Perkins Innovation and Modernization Grant Program

AGENCY: Office of Career, Technical, and Adult Education, Department of Education.

ACTION: Notice.

SUMMARY: The Department of Education (ED or Department) is issuing a notice inviting applications for new awards for fiscal year (FY) 2023 for the Perkins Innovation and Modernization (PIM) grant program, Assistance Listing Number 84.051F. This notice relates to the approved information collection under OMB control number 1830-0583.

DATES:

Applications Available: August 14, 2023.

Deadline for Notice of Intent to Apply: Applicants are strongly encouraged, but not required, to submit a notice of intent to apply by September 13, 2023.

Date of Pre-Application Webinar: For information about a pre-application webinar or potential future webinars, visit the Perkins Collaborative Resource Network (PCRN) at http://cte.ed.gov/.

Deadline for Transmittal of Applications: October 13, 2023.

Deadline for Intergovernmental Review: December 12, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Dr. Charles “Bryan” Jenkins, U.S. Department of Education, 400 Maryland Avenue SW, Room 4A192, Washington, DC 20202. Telephone: 202-987-0815. Email: PIMGrants@ed.gov.

If you are deaf, hard of hearing, or have a speech disability and wish to access telecommunications relay services, please dial 7-1-1.

SUPPLEMENTARY INFORMATION:

Full Text of Announcement

I. Funding Opportunity Description

Purpose of Program: The purpose of the PIM grant program is to identify, support, and rigorously evaluate evidence-based and innovative strategies and activities to improve and modernize career and technical education (CTE) and ensure workforce skills taught in CTE programs funded under the Carl D. Perkins Career and Technical Education Act of 2006, as amended by the Strengthening Career and Technical Education for the 21st Century Act (Perkins V), align with labor market needs.

Background: The PIM grant program, authorized under section 114(e) of Perkins V, supports evidence-based educational programs and practices to improve and modernize CTE. Raise the Bar: Lead the World ¹ is the Department's call to action to transform prekindergarten through grade 12 education through evidence-based practices and strategies that advance educational equity and excellence. Within this call to action is Raise the Bar: Unlocking Career Success, an interagency initiative across the U.S. Departments of Education, Labor, and Commerce, that reimagines how our nation's high schools prepare all students to thrive in their future careers by providing students with accelerated and innovative opportunities to earn college credits and gain career experiences. This Fiscal Year (FY) 2023 PIM grant program competition advances the goals of Raise the Bar: Unlocking Career Success through priorities that seek to prepare all young people more equitably and effectively for further learning and economic advancement in rewarding careers.

¹ U.S. Secretary of Education Miguel Cardona laid out his vision for the direction the Department will follow in fiscal year 2023 to promote academic excellence, improve learning conditions, and prepare students for a world where global engagement is critical to our Nation's standing. More information is available at https://www.ed.gov/raisethebar.

With this competition, the Department seeks to support applicants that will build capacity among secondary education, postsecondary education, and workforce development systems to expand access to career-connected high school programs for more students. As described below, the four strategies, or “keys,” to career-connected high schools are evidence-based strategies that support students in the connections and transition between high school, postsecondary education, and careers. Under Absolute Priority 1, applicants will be required to describe the extent to which they are currently implementing career-connected learning and provide a plan for how they will increase the proportion of students who graduate from high school with these four keys to unlock their career success:

• Postsecondary Education and Career Navigation System. Participation in a comprehensive postsecondary education and career navigation system that supports career exploration and education planning, provides information and assistance in pursuing further learning after high school, and includes the development and regular updating of a personalized postsecondary education and career plan (as defined in this notice) throughout high school;

• Dual or Concurrent Enrollment. Postsecondary credits earned from dual or concurrent enrollment programs (as defined in this notice) within a clearly defined program of study (as defined in this notice) to give students a head start in earning a postsecondary credential;

• Work-Based Learning. Participation in work-based learning opportunities (as defined in this notice) for which students receive wages or academic credit, or both; and

• Industry-Recognized Credential. Attainment of an in-demand and high-value industry-recognized credential (as defined in this notice) so that every young person can earn a living wage after high school, open more doors to pursue further education, and live independently.

The four keys to career-connected learning are evidence-based ² and have broad support. According to an analysis by the National Governors Association, at least 31 Governors focused in their 2023 State of the State addresses on expanding CTE and workforce development opportunities for high school students.³ Virginia Governor Glenn Youngkin advocated for strong partnerships between community colleges and high schools so that every high school student can earn an industry-recognized or postsecondary credential in high school.⁴ Oklahoma Governor Kevin Stitt called for expanding dual enrollment programming so that high school students can more easily earn college credits. Montana Governor Greg Gianforte recommended expanding work-based learning opportunities that allow students to obtain on-the-job experience and apply that experience to their high school graduation requirements.⁵ They join governors, such as Washington Governor Jay Inslee, California Governor Gavin Newsom, and Ohio Governor Mike DeWine, who have championed State investments in expanding and improving college and career pathways for young people through Career Connect Washington,⁶ the Golden State Pathways Program,⁷ and College Credit Plus,⁸ respectively.

² We published a notice of proposed priorities, requirements, definitions, and selection criteria for this program in the Federal Register on May 16, 2023 (88 FR 31196). The notice contains background information on the evidence that supports the four keys to career-connected learning.

³ National Governors Association (2023), State Education Trends for 2023 (March 14, 2023). Retrieved from: https://www.nga.org/news/commentary/state-education-trends-for-2023/.

⁴ Jamieson, C., Perez, Jr., Z., “Governors' Top Education Priorities in 2023 State of the State Addresses.” Education Commission of the States and the National Governor's Association. Retrieved from: https://www.ecs.org/wp-content/uploads/Governors-Top-Education-Priorities-in-2023-State-of-the-State-Addresses.pdf.

⁵ Montana Department of Commerce (2023), Governor Gianforte: “The American Dream is Alive and Well Here in Montana” (February 1, 2023). Retrieved from: https://commerce.mt.gov/News/news-articles/Governor-Gianforte-The-American-Dream-Is-Alive-and-Well-Here-in-Montana.

⁶ Career Connect Washington (2023), Career Connect Washington: Overview and Updates (April 2023). Retrieved from: https://careerconnectwa.org/plan/.

⁷ California Department of Education (2022), Golden State Pathways Program. Retrieved from: https://www.cde.ca.gov/ci/gs/hs/gspp.asp.

⁸ Poiner, J. (2022), Ohio is making strides in education-to-workforce pathways, Ohio Gadfly Daily (June 6, 2022), Thomas B. Fordham Institute. Retrieved from: https://fordhaminstitute.org/ohio/commentary/ohio-making-strides-education-workforce-pathways.

Paragraph (b) of Absolute Priority 1, along with Program Requirements 2 and 3, challenges applicants to offer dual or concurrent enrollment courses not as one-off opportunities to explore postsecondary education, or what some have described as “random acts of dual enrollment,” ⁹ but as elements of a coherent program of study that culminates with an associate, bachelor's, or advanced degree, or completion of a Registered Apprenticeship Program. Each academic or CTE course in the program of study should advance students toward their college and career goals by counting toward their intended postsecondary credential. Applicants are encouraged to connect their design of these programs of study with the “guided pathway” reform effort among community colleges and other broad-access public institutions of higher education (IHEs) to reorganize course offerings into clearly defined course sequences within “meta-majors” that are mapped to in-demand careers.¹⁰ Under the guided pathway model, students who are still considering their career and credential options select a meta-major like health sciences or science, technology, engineering, and mathematics, and begin taking introductory academic or CTE courses within the meta-major that count toward a number of different credentials. Dual or concurrent enrollment programs also may be organized in this way.

⁹ Fink, J., Fay, M., et al. (2022), From “Random Acts” and “Programs of Privilege” to Dual Enrollment Equity Pathways, The Mixed Methods Blog (April 4, 2022), Community College Research Center. Retrieved from: https://ccrc.tc.columbia.edu/easyblog/introducing-dual-enrollment-equity-pathways.html.

¹⁰ Jenkins, D., Lahr, H., Fink, J., and Ganga, E. (2018), What We Are Learning About Guided Pathways: Part 1: A Reform Moves from Theory to Practice, Community College Research Center, Teachers College, Columbia University. Retrieved from: https://ccrc.tc.columbia.edu/media/k2/attachments/guided-pathways-part-1-theory-practice.pdf.

Statutory Application Requirement 4 requires a description of how the CTE programs or programs of study to be implemented with grant funds reflect the needs of local, regional, or State employers, as demonstrated by the comprehensive needs assessment that subrecipients of the Perkins V State formula grant program conduct every two years under section 134(c) of Perkins V. Applicants are encouraged to connect proposed project activities with efforts to strengthen and expand their local economies by attracting new industry and taking advantage of new good job opportunities like those created by the Infrastructure Investment and Jobs Act (Pub. L. 117-58),¹¹ CHIPS and Science Act (Pub. L. 117-167),¹² and the Inflation Reduction Act (Pub. L. 117-169).¹³ The Invest.gov website has an interactive map that, for a given community, region, or State, illustrates the impact of this record-breaking level of Federal and private sector investment in critical sectors of our economy such as infrastructure, clean energy, semiconductors, and biotechnology.¹⁴ Additionally, applicants are encouraged to connect their proposed project activities with efforts to expand good jobs in foundational sectors that support healthy and productive local economies and workforces, such as health care and early education.

¹¹ Office of the President (Aug. 3, 2021), Fact Sheet: The Bipartisan Infrastructure Investment and Jobs Act Creates Good-Paying Jobs and Supports Workers. Retrieved from: https://www.whitehouse.gov/briefing-room/statements-releases/2021/08/03/fact-sheet-the-bipartisan-infrastructure-investment-and-jobs-act-creates-good-paying-jobs-and-supports-workers/.

¹² Office of the President (Aug. 9, 2022), Fact Sheet: CHIPS and Science Act Will Lower Costs, Create Jobs, Strengthen Supply Chains, and Counter China. Retrieved from: https://www.whitehouse.gov/briefing-room/statements-releases/2022/08/09/fact-sheet-chips-and-science-act-will-lower-costs-create-jobs-strengthen-supply-chains-and-counter-china/. These include new jobs for early educators that may be created as a part of large employers' obligation to connect their employees to accessible, affordable, reliable, and high-quality child care. https://www.nist.gov/system/files/documents/2023/03/30/CHIPS%20Workforce%20Development%20Planning%20Guide%20%281%29.pdf.

¹³ Office of the President (Aug. 19, 2022), Fact Sheet: The Inflation Reduction Act Supports Workers and Families. Retrieved from: https://www.whitehouse.gov/briefing-room/statements-releases/2022/08/19/fact-sheet-the-inflation-reduction-act-supports-workers-and-families/.

¹⁴ The White House (2023), Investing in America. Retrieved from: https://www.whitehouse.gov/invest/.

The Department is committed to advancing equity and examining and addressing the sources of inequities in educational opportunities. In this competition, Absolute Priority 2 is from the Secretary's Supplemental Priorities and Definitions for Discretionary Grants Programs, published in the Federal Register on December 10, 2021 (86 FR 70612) (Supplemental Priorities) and focuses on designing projects that provide opportunities and resources for underserved students (as defined in this notice). Perkins V emphasizes supports for students who are members of special populations (as defined in this notice). The groups of students in the Perkins V definition are aligned with the groups in the definition of underserved students drawn from the Supplemental Priorities.

All applicants are required to meet both Absolute Priorities 1 and 2 to be eligible for a grant award. Through Absolute Priority 2, we focus grantee efforts on expanding participation of underserved students in the four keys to career-connected learning described in Absolute Priority 1 because underserved students are typically less likely to access and engage in these opportunities than their peers. For example, while dual or concurrent enrollment programs are widespread and nationally—available, by one estimate, in 82 percent of public high schools ¹⁵—students from low-income families, English learners, students with disabilities, youth in foster care, and students experiencing homelessness are all less likely to participate in dual or concurrent enrollment programs or courses.¹⁶ As a result, too many communities are not taking full advantage of the power of dual or concurrent enrollment to reduce equity gaps and promote greater college readiness and success among students who are underrepresented in postsecondary education. These and other equity gaps in career-connected learning activities are deep and persistent, but they can be closed with intentional policies and practices and by scaling up existing successful strategies.¹⁷ Absolute Priority 2 focuses grantees on such efforts by deliberately designing their projects to close equity gaps. This priority is consistent with the focus on equity in Perkins V and with the statutory directive that the Department give priority to proposed PIM projects that will predominantly serve students from low-income families.

¹⁵ Taie, S., & Lewis, L. (2020), Dual or concurrent enrollment in public schools in the United States (NCES 2020-125, Data Point). U.S. Department of Education, Institute of Education Sciences, National Center for Education Statistics. Retrieved from: https://nces.ed.gov/pubs2020/2020125.pdf.

¹⁶ Taylor, J.L., Allen, T.O., An, B.P., Denecker, C., Edmunds, J.A., Fink, J., Giani, M.S., Hodara, M., Hu, X., Tobolowsky, B.F., & Chen, W. (2022), Research priorities for advancing equitable dual enrollment policy and practice. Salt Lake City, UT: University of Utah. Retrieved from: https://cherp.utah.edu/_resources/documents/publications/research_priorities_for_advancing_equitable_dual_enrollment_policy_and_practice.pdf.

¹⁷ Mehl, G., Wyner, J., Barnett, E.A., Fink, J., & Jenkins, D. (2020), The dual enrollment playbook: A guide to equitable acceleration for students. Aspen Institute and Community College Research Center. Retrieved from: https://ccrc.tc.columbia.edu/media/k2/attachments/dual-enrollment-playbook-equitable-acceleration.pdf.

However, while Absolute Priority 2 requires a grantee to give particular attention to improving the participation of underserved students in systematic postsecondary counseling and career advising, dual or concurrent enrollment, work-based learning, and programs that offer opportunities to earn an industry-recognized credential, we encourage applicants to implement schoolwide-approaches that may be used to serve all students. Projects may be more cohesive and sustainable if the four keys are implemented schoolwide, with appropriate supports and equity guardrails to ensure that underserved students remain the focus of these strategies. Similarly, applicants who respond to Competitive Preference 2, which gives competitive preference to applicants who submit a plan to predominantly serve students from families with low incomes, are not required to exclusively serve students from families with low incomes to meet the priority. We encourage applicants responding to this priority to design schoolwide projects where possible.

Some students face barriers that can make accessing and succeeding in career-connected learning activities especially difficult. Comprehensive, wraparound supportive services can play a critical role in mitigating or removing these barriers. Supportive services could include, for example, and where appropriate, child and dependent care, tools, work clothing, application fees and other costs of apprenticeship or required pre-employment training, transportation and travel to training and work sites, internet access, mental health counseling, legal assistance, financial counseling, drug treatment, reasonable accommodations, and services aimed at helping to retain underserved students like mentoring, support groups, and peer networking.¹⁸ We note that Absolute Priority 1 uses the term “career guidance and academic counseling” from Perkins V, which includes informing all students about the availability of support services and directly providing support services to students who are members of special populations to enable them to persist in and complete programs of study. The definition of personalized postsecondary education and career plan also requires that the plan identify any comprehensive wraparound support services a student may need to participate in programs of study and work-based learning. Applicants are encouraged to address in their applications how they will use wraparound supportive services to increase student participation in the four keys to career-connected learning. This includes, where appropriate, child or dependent care, consistent with the President's Executive Order on Increasing Access to High-Quality Care and Supporting Caregivers.¹⁹

¹⁸ Please note that any proposed use of funds for supportive services must be both an allowable activity under section 114(e)(7) of Perkins and a reasonable and necessary cost of the program under the Uniform Administrative Requirements, Cost Principles, and Audit Requirements for Federal Awards in 2 CFR part 200.

¹⁹ Executive Office of the President, Executive Order 14095 (April 18, 2023), Increasing Access to High-Quality Care and Supporting Caregivers, 88 FR 24669. Retrieved from: https://www.federalregister.gov/documents/2023/04/21/2023-08659/increasing-access-to-high-quality-care-and-supporting-caregivers.

One related program requirement addresses the implementation of the four keys described in Absolute Priority 1. It requires that each grantee's project plan include a timeline for implementation of all four keys to career-connected learning for students served by the project, by no later than the end of the fifth year of the project. Each grantee also must submit an annual report documenting progress on the implementation plan and the timeline. We recognize that grantees are likely to be in different stages of developing and implementing the four keys described in the priority at the onset of the grant period, and that some grantees will need more time to focus on one or more of the keys; however, we also emphasize that implementing a cohesive and integrated plan for transforming high schools that incorporates all four keys for all students served is more likely to be sustainable and effective in equitably preparing students for their futures. This requirement does not mandate that grantees achieve universal participation in the four keys to career-connected learning by the end of the grant period. It requires instead that a grantee achieve a measurable level of student participation in the four keys by the end of the grant period. Because several of the selection criteria assess the extent to which applicants will significantly expand participation in each of the keys, we expect applicants that seek to achieve a high level of participation in the four keys and present compelling plans for achieving it will be the most competitive.

Section 114(e)(5) of Perkins V directs the Department to award no less than 25 percent of PIM grant funds to projects proposing to fund CTE activities that serve students in rural communities. To confirm that a proposed project will serve students from rural communities, Absolute Priority 3 requires an applicant to identify, by name, National Center for Education Statistics (NCES) local educational agency (LEA), identification number, and NCES locale code, the rural LEA(s) that it proposes to serve in its grant application. Applicants from rural communities, including Tribal applicants, that wish to be considered for these focused funds, must meet Absolute Priorities 1, 2, and 3.

This competition also includes two competitive preference priorities. The first competitive preference priority has two parts. Competitive Preference Priority 1(a) seeks eligible applicants that apply as a partnership that includes an LEA, a community or technical college or another IHE, and, to ensure the project prepares students for in-demand careers, employers. Transforming high schools to equip students with the knowledge and skills they will need to succeed in college and in jobs is likely to be more cohesive if it is carried out through a partnership that includes, at a minimum, leadership and commitment from secondary education, postsecondary education, and business and industry. Other relevant community stakeholders, such as local workforce development boards (as defined in this notice), qualified intermediaries (as defined in this notice), labor-management partnerships, youth-serving organizations, local teachers unions or school staff unions or other representatives of teachers and faculty, and nonprofit organizations, may also be engaged. Applicants are required to provide a preliminary memorandum of understanding (MOU) or partnership agreement among all the identified partner entities that describes the roles and responsibilities of each partner in carrying out the proposed project. Recognizing that some implementation decisions are likely to take more time or additional partners, the notice also requires PIM partnership grantees to submit a formal MOU that includes all members of the partnership 120 days after the grant is awarded.

Competitive Preference Priority 1(b) is from the Supplemental Priorities and establishes a competitive priority for applicants whose postsecondary partner is a Historically Black college or university, Tribal College or University, or a minority-serving institution (all respectively defined in this notice). Applicants that choose to address Competitive Preference Priority 1(a) may also address Competitive Preference Priority 1(b). To be considered for the maximum number of points for this competitive preference priority (7), an applicant must address both parts. An applicant may choose, however, to address only Competitive Preference 1(a) and receive 5 points.

Section 114(e)(4) of Perkins V instructs the Secretary to give priority to PIM grant projects that will predominantly serve students from low-income families. To encourage and support efforts to increase the number of innovative and high-quality programs available to students from families with low incomes, particularly in our Nation's high-poverty communities, Competitive Preference Priority 2 operationalizes this statutory priority by seeking applicants with a strong plan to serve students from families with low incomes and provide evidence that a specific minimum percentage of students from families with low incomes will be served by the project over the course of the grant project period.

Priorities: This notice contains three absolute priorities and two competitive preference priorities. Absolute Priorities 1 and 3 and Competitive Preference Priorities 1(a) and 2 are from the notice of final priorities, requirements, definitions, and selection criteria for the PIM grant program published in the Federal Register on August 14, 2023 (NFP). Absolute Priority 2 and Competitive Preference Priority 1(b) are from the Supplemental Priorities.

Absolute Priorities: For FY 2024 and any subsequent year in which we make awards from the list of unfunded applications from this competition, these priorities are absolute priorities. Under 34 CFR 75.105(c)(3) we consider only applications that meet Absolute Priority 1 and Absolute Priority 2; or Absolute Priority 1, Absolute Priority 2 and Absolute Priority 3.

Absolute Priority 3 constitutes its own funding category under Absolute Priorities 1 and 2. Under section 114(e)(5) of Perkins V, the Department must use at least 25 percent of PIM program grant funds per fiscal year to make awards to applicants serving rural communities, contingent on receipt of a sufficient number of applications of sufficient quality. For purposes of this competition, we will consider an applicant, including Tribal applicants, as rural if the applicant meets the qualifications for rural applicants established in section 114(e)(5)(A) of Perkins V, and the applicant addresses Absolute Priority 3. Consequently, there will be separate funding slates for each of the following categories of applications:

• Absolute Priorities 1 and 2;

• Absolute Priorities 1 and 2 and 3.

Note: As a result of the statutory requirement that the Department award no less than 25 percent of PIM grant funds to projects proposing to fund CTE activities that serve students in rural communities, the Department may fund applicants out of the overall rank order, provided applications of sufficient quality are submitted, but the Department is not bound to do so.

These priorities are:

Absolute Priority 1—Career-Connected High Schools.

To meet this priority, an applicant must submit a detailed 5-year implementation plan to increase the alignment and integration of high school and the first 2 years of postsecondary education in one or more high schools that describes the extent to which the applicant is currently implementing career-connected learning, with supporting data if available; and describes how the applicant will substantially increase the proportion of students who graduate from high school with the following four keys for career connected learning:

(a) Education and career goals documented in a personalized postsecondary education and career plan that was updated at least once in each year of high school through a system of career guidance and academic counseling (as defined by this notice) and postsecondary education navigation supports that offers college and career coaching from trained advisors that is culturally responsive and informed by accurate and current labor market information;

(b) Postsecondary credits earned from dual or concurrent enrollment programs that are part of a program of study that culminates with an associate, bachelor's, or advanced degree, or completion of a Registered Apprenticeship Program;

(c) Work experience gained through participation in one or more work-based learning opportunities for which they received wages, academic credit, or both; and

(d) An in-demand and high-value industry-recognized credential.

Absolute Priority 2—Promoting Equity in Student Access to Educational Resources and Opportunities.

Under this priority, an applicant must demonstrate that the applicant proposes a project designed to promote educational equity and adequacy in resources and opportunity for underserved students in high school that examines the sources of inequity and inadequacy and implements responses, and that includes rigorous, engaging, and well-rounded (e.g., that includes music and the arts) approaches to learning that are inclusive with regard to race, ethnicity, culture, language, and disability status and prepare students for college, career, and civic life, including the following:

(a) Advanced courses and programs, including dual enrollment and early college programs.

(b) Project-based and experiential learning, including service and work-based learning.

(c) High-quality CTE courses, pathways, and industry-recognized credentials that are integrated into the curriculum.

Absolute Priority 3—Rural Communities.

To meet this priority, an applicant must demonstrate that the proposed project will serve students residing in rural communities and identify by name, National Center for Education Statistics (NCES) LEA identification number, and NCES locale code, the rural LEA(s) that it proposes to serve in its grant application. Applicants may retrieve locale codes from the NCES School District search tool (nces.ed.gov/ccd/districtsearch/).

Competitive Preference Priorities: These priorities are competitive preference priorities. Under 34 CFR 75.105(c)(2)(i), we award an additional 5 points to an application that meets Competitive Preference Priority 1(a), and we award an additional 2 points to an application that meets Competitive Preference Priority 1(b), as applicable. Only applicants that meet Competitive Preference Priority 1(a) are eligible for consideration under Competitive Preference Priority 1(b), and an applicant must address both parts of the priority to receive consideration for the full 7 points under Competitive Preference Priority 1. We award up to an additional 8 points to an application, depending on how well the application meets Competitive Preference Priority 2.

The total maximum points we may award an application that chooses to address all of the Competitive Preference Priorities is 115 for applicants applying under only Absolute Priorities 1 and 2. For applicants serving rural communities under Absolute Priority 3, who are eligible to receive up to an additional 10 points under the Selection Criteria, the total maximum points we may award an application that chooses to address all of the Competitive Preference Priorities is 125.

Competitive Preference Priority 1—Partnership Applications (up to 7 points total).

Competitive Preference Priority 1(a)—Partnership Requirements (5 points).

To meet this priority, an application—

(1) Must be submitted by an applicant that includes one or more partners in each of the following categories:

(A) A LEA (including a public charter school LEA), an area CTE school, an educational service agency serving secondary school students, an Indian Tribe, Tribal organization, or Tribal educational agency, eligible to receive assistance under section 131 of Perkins V;

(B) A community or technical college or other IHE eligible to receive assistance under section 132 of Perkins V; and

(C) Two or more business or industry representative partners, which may include representatives of local or regional businesses or industries;

(2) May include any other relevant community stakeholders, such as local workforce development boards, labor-management partnerships, youth-serving organizations, nonprofit organizations, qualified intermediaries, local teachers unions or school staff unions or other representatives of teachers and faculty, and afterschool and summer learning programs; and

(3) Must include a partnership agreement or proposed MOU among all members of the application, identified at the time of the application, that describes the role of each partner in carrying out the proposed project and the process for a formal MOU to be established.

Competitive Preference Priority 1(b)—Promoting Equity in Student Access to Educational Resources and Opportunities (2 points).

Under this priority, an applicant must demonstrate that the project's partnership described in Competitive Preference Priority 1(a) will be implemented by or in partnership with one or more of the following entities:

(1) Historically Black colleges and universities.

(2) Tribal Colleges and Universities.

(3) Minority-serving institutions.

Competitive Preference Priority 2—Serving Students from Families with Low Incomes (up to 8 points).

To meet this priority, applicants must submit a plan to predominantly serve students from families with low incomes.

The plan must include—

(a) The specific activities the applicant proposes to ensure that the project will predominantly serve students from low-income families, including how the project will recruit and retain students and the supports it will provide to students to promote retention and completion;

(b) The timeline for implementing the activities;

(c) The parties responsible for implementing the activities;

(d) The key data sources and measures demonstrating that the project is designed to predominantly serve students from low-income families; and

(e) Evidence that at least 51 percent of the students to be served by the project are from low-income families.

(1) When demonstrating that the project is designed to predominantly serve secondary students from low-income families, the applicant must use one or more of the following data sources and measures:

(A) Children aged 5 through 17 in poverty counted in the most recent census data approved by the Secretary; ²⁰

²⁰ The U.S. Census Bureau LEA poverty estimates are available at: www.census.gov/data/datasets/2017/demo/saipe/2017-school-districts.html.

(B) Students eligible for a free or reduced-price lunch under the Richard B. Russell National School Lunch Act (42 U.S.C. 1751 et seq.);

(C) Students whose families receive assistance under the State program funded under part A of title IV of the Social Security Act (42 U.S.C. 601 et seq.);

(D) Students who are eligible to receive medical assistance under the Medicaid program;

(E) Residence in a Census tract, a set of contiguous Census tracts, an American Indian Reservation, Oklahoma Tribal Statistical Area (as defined by the U.S. Census Bureau), Alaska Native Village Statistical Area or Alaska Native Regional Corporation Area, Native Hawaiian Homeland Area, or other Tribal land as defined by the Secretary of Labor in guidance, or a county, that has a poverty rate of at least 25 percent as set every 5 years using American Community Survey 5-year data; or

(F) A composite of such indicators.

(2) When demonstrating that the project is designed to predominantly serve secondary students from low-income families, applicants may use data from elementary or middle schools that feed into a secondary school to establish that 51 percent of the students to be served by the project are students from low-income families.

Program Requirements:

The five program requirements for this program are from the NFP.

Program Requirement 1—Matching Contributions.

(a) A grantee must provide from non-Federal sources (e.g., State, local, or private sources), an amount equal to not less than 50 percent of funds provided under the grant, which may be provided in cash or through in-kind contributions, to carry out activities supported by the grant, except that the Secretary may waive the matching funds requirement, on a case-by-case basis, upon a showing of exceptional circumstances, such as (but not limited to)—

(1) The difficulty of raising matching funds for a program to serve a rural area.

(2) The difficulty of raising matching funds on Tribal land.

(3) The difficulty of raising matching funds in areas with a concentration of local educational agencies or schools with a high percentage of students aged 5 through 17—

(A) who are living in poverty, as counted in the most recent census data approved by the Secretary;

(B) who are eligible for a free or reduced-price lunch under the Richard B. Russell National School Lunch Act (42 U.S.C. 1751 et seq.);

(C) whose families receive assistance under the State program funded under part A of title IV of the Social Security Act (42 U.S.C. 601 et seq.); or

(D) who are eligible to receive medical assistance under the Medicaid program.

(4) The difficulty of raising matching funds by an IHE that, during the current or preceding year, has been granted a waiver by the Department of certain non-Federal cost-sharing requirements under the Federal Work Study program, the Federal Supplemental Educational Opportunity Grants program, or the TRIO Student Support Services program because it has low education and general expenditures and serves a large proportion of students receiving need-based assistance under title IV of the Higher Education Act of 1965, as amended (HEA).

(b) Non-Federal funds used by a grantee to support activities allowable under this program prior to its receipt of the grant may be used to meet the matching requirements of this program. The prohibition against supplanting non-Federal funds in section 211(a) of Perkins V applies to grant funds provided under this program but does not apply to the matching requirement.

(c) Matching funds provided by a grantee may be met over the full duration of the grant award period, rather than per year, except that the grantee must make progress toward meeting the matching requirement in each year of the grant award period.

Program Requirement 2—Programs of Study.

By no later than the end of the first year of the project, courses in programs of study offered by grantees to students for completion during high school must be designed to meet the entrance requirements and expectations for placement in credit-bearing coursework at public, in-state IHEs. Dual enrollment courses confer postsecondary credit. The programs of study offered to students by grantees may include opportunities to attain an industry-recognized credential or a postsecondary certificate that participating students may earn during high school, but must culminate with an associate, bachelor's, or advanced degree, or completion of a Registered Apprenticeship Program upon completion of additional postsecondary education after high school graduation.

Program Requirement 3—Independent Evaluation.

(a) The independent evaluation supported by a grantee must, in accordance with instructions and definitions provided by the Secretary, report annually the number and percentage of students who graduated from high schools served by the proposed project who, prior to or upon graduation—

(1) Earned, through their successful participation in dual or concurrent enrollment programs in academic or CTE subject areas—

(i) any postsecondary credits; and, separately,

(ii) 12 or more postsecondary credits that are part of a program of study that culminates with an associate, bachelor's, or advanced degree, or completion of a Registered Apprenticeship Program.

(2) Completed 40 or more hours of work-based learning for which they received wages or academic credit, or both.

(3) Attained an industry-recognized credential that is in-demand in the local, regional, or State labor market and associated with one or more jobs with median earnings that exceed the median earnings of a high school graduate.

(4) Met, in each year of high school, with a school counselor, college adviser, career coach, or other appropriately trained adult for education and career counseling during which they reviewed and updated a personalized postsecondary educational and career plan.

(b) The outcomes described in paragraph (a) must be disaggregated by—

(1) Subgroups of students, described in section 1111(c)(2)(B) of the Elementary and Secondary Education Act of 1965 (ESEA);

(2) Special populations;

(3) Sex; and

(4) Each CTE program and program of study.

(c) The independent evaluation supported by a grantee must report annually on the extent to which CTE participants and CTE concentrators in each CTE program or program of study reflect the demographics of the school, including sex, major racial and ethnic groups, and special populations status.

(d) The independent evaluation supported by a grantee must also report annually on the average number of postsecondary credits earned by students through their successful participation in dual or concurrent enrollment programs in academic or career and technical education subject areas and any project-specific indicators identified by the grantee.

Program Requirement 4—Final MOU.

Within 120 days of receipt of its grant award, each grantee that submitted a partnership application must submit a final MOU among all partner entities that describes the roles and responsibilities of the partners in carrying out the project and its activities.

Program Requirement 5—Project Implementation Plan and Timeline.

Each grantee must have a project plan that includes an implementation timeline with benchmarks to implement the four keys to career-connected learning for students served by the project, as described in Absolute Priority 1, by no later than the end of the fifth year of the project. Each grantee will submit a report documenting progress on the implementation plan and the timeline on an annual basis.

Application Requirements:

All applicants must meet the application requirements to be considered for funding. Application requirement (a) is from section 114(e)(3) of Perkins V. Application requirements (b) through (f) are from the NFP.

(a) Statutory Application Requirements. Each applicant must:

(1) Identify and designate the agency, institution, or school responsible for the administration and supervision of the proposed project;

(2) Describe the budget for the project, including the source and amount of the required matching funds and how the applicant will continue the project after the grant period ends, if applicable;

(3) Describe how the applicant will use the grant funds, including how such grant funds will directly benefit students, including special populations, served by the applicant;

(4) Describe how the program assisted under this subsection will be coordinated with the activities carried out under section 124 or 135 of Perkins V;

Note: In addressing this application requirement, applicants need only describe this coordination to the extent the applicant is aware of State leadership activities or local uses of funds under section 124 or 135 of Perkins V.

(5) Describe how the CTE programs and/or programs of study to be implemented with grant funds reflect the needs of regional, State, or local employers, as demonstrated by the comprehensive needs assessment under section 134(c) of Perkins V;

(6) Describe how the proposed program will be evaluated and how that evaluation may inform the report described in section 114(d)(2)(C) of Perkins V.; and

(7) Provide an assurance that the applicant will—

(A) Provide information to the Secretary, as requested, for evaluations that the Secretary may carry out; and

(B) Make data available to third parties for validation, in accordance with applicable data privacy laws, including section 444 of the General Education Provisions Act (20 U.S.C. 1232g, commonly known as the Family Educational Rights and Privacy Act of 1974).

(b) Demonstration of Matching Funds.

(1) Each applicant must provide from non-Federal sources (e.g., State, local, or private sources) an amount equal to not less than 50 percent of funds provided under the grant, which may be provided in cash or through in-kind contributions, to carry out activities supported by the grant unless it receives a waiver due to exceptional circumstances. The applicant must include in its grant application a budget detailing the source of the matching funds or a request to waive the entirety or a portion of the matching requirement due to exceptional circumstances.

(2) An applicant that is unable to meet the matching requirement must include in its application a request to the Secretary to reduce the matching requirement, including the amount of the requested reduction, the total remaining match contribution, an explanation and evidence of the exceptional circumstances that make it difficult for the applicant to provide matching funds, and an indication as to whether it can carry out its proposed project if the matching requirement is not waived.

(c) Programs of Study.

Each applicant must identify and describe in its application the course sequences in the programs of study that will be offered by high schools in the proposed project, including the associate, bachelor's, advanced degree, or certificate of completion of a Registered Apprenticeship that students may earn by completing each program of study, and how students served by the proposed project will have equitable access to such programs of study.

(d) Secondary and Postsecondary Alignment and Integration.

Each applicant must describe how it has aligned and integrated or will align and integrate the secondary coursework offered to students in funded projects to meet the entrance requirements and expectations for placement in credit-bearing coursework at public, in-state IHEs. If the alignment has not been achieved at the time of application, this description must include a timeline for completion of this work by the end of the first year of the project, as well as information on the persons who will be responsible for these activities and their roles and qualifications.

(e) Articulation and Credit Transfer Agreements.

Each applicant must include in its application an assurance that by no later than the end of the first year of the project, LEAs, and IHEs participating in the project will execute articulation or credit transfer agreements that ensure that postsecondary credits earned by students in dual or concurrent enrollment programs supported by the project will be accepted for transfer at each participating IHE, and other IHEs, if applicable, and count toward the requirements for earning culminating postsecondary credentials for programs of study offered to students through the project.

(f) Dual or Concurrent Enrollment Goals.

Each applicant must include in its application a description of how it will substantially increase the proportion of students who graduate from high school with postsecondary credits earned through participation in dual or concurrent enrollment programs and how, over the 60-month project period, it also will seek to increase the average number of postsecondary credits earned by students to 12 or more credits.

Definitions:

The definitions of area CTE school, articulation agreement, career guidance and academic counseling, career and technical education, CTE concentrator, CTE participant, credit transfer agreement, eligible entity, eligible institution, eligible recipient, English learner, individual with a disability, non-traditional fields, out-of-workforce individual, postsecondary educational institution, program of study, qualified intermediary, special populations, and work-based learning are from section 3 of Perkins V. The definitions of dual or concurrent enrollment program, early college high school, and evidence-Based are from section 8101 of the ESEA (20 U.S.C. 7801 et seq.) because Perkins V adopted the ESEA definitions of these terms (see subsections (15), (16), (23), and (47) of section 3 of Perkins V, respectively). The definition of institution of higher education is from section 101 of the Higher Education Act of 1965, as amended (HEA) (20 U.S.C. 1001 et seq.), because Perkins V adopted the HEA definition of that term (see section 3(30) of Perkins V). The definitions of baseline, performance Measure, performance target, project component, and relevant outcome are from 34 CFR 77.1. The definitions of local workforce development board and recognized postsecondary credential are from section 3 of the Workforce Innovation and Opportunity Act (WIOA) (29 U.S.C. 3102), because Perkins V adopted the WIOA definitions of those terms (see sections 3(32) and (43) of Perkins V, respectively). The definitions of Historically Black colleges and universities, minority-serving institution, Tribal College or University, and underserved student are from the Supplemental Priorities. The definitions of independent evaluation, industry-recognized credential, personalized postsecondary educational and career plan and rural community are from the NFP.

Area CTE school means—

(A) a specialized public secondary school used exclusively or principally for the provision of CTE to individuals who are available for study in preparation for entering the labor market;

(B) the department of a public secondary school exclusively or principally used for providing CTE in not fewer than 3 different fields that are available to all students, especially in high-skill, high-wage, or in-demand industry sectors or occupations, that are available to all students;

(C) a public or nonprofit technical institution or CTE school used exclusively or principally for the provision of CTE to individuals who have completed or left secondary school and who are available for study in preparation for entering the labor market, if the institution or school admits, as regular students, individuals who have completed secondary school and individuals who have left secondary school; or

(D) the department or division of an IHE, that operates under the policies of the eligible agency and that provides CTE in not fewer than 3 different occupational fields leading to immediate employment but not necessarily leading to a baccalaureate degree, if the department or division admits, as regular students, both individuals who have completed secondary school and individuals who have left secondary school.

Articulation agreement means a written commitment—

(a) That is agreed upon at the State level or approved annually by the lead administrators of—

(1) A secondary institution and a postsecondary educational institution; or

(2) A subbaccalaureate degree granting postsecondary educational institution and a baccalaureate degree granting postsecondary educational institution; and

(b) To a program that is—

(1) Designed to provide students with a nonduplicative sequence of progressive achievement leading to technical skill proficiency, a credential, a certificate, or a degree; and

(2) Linked through credit transfer agreements between the 2 institutions described in clause (1) or (2) of subparagraph (a) (as the case may be).

Baseline means the starting point from which performance is measured and targets are set.

Career guidance and academic counseling means guidance and counseling that—

(a) Provides access for students (and parents, as appropriate) to information regarding career awareness and planning with respect to an individual's occupational and academic future; and

(b) Provides information with respect to career options, financial aid, and postsecondary options, including baccalaureate degree programs. Provides access for students (and, as appropriate, parents and out-of-school youth) to information regarding career awareness exploration opportunities and planning with respect to an individual's occupational and academic future; and

(c) May provide assistance for special populations with respect to direct support services that enable students to persist in and complete career and technical education, programs of study, or career pathways.

Career and technical education means organized educational activities that—

(a) Offer a sequence of courses that—

(1) Provides individuals with rigorous academic content and relevant technical knowledge and skills needed to prepare for further education and careers in current or emerging professions, which may include high-skill, high-wage, or in-demand industry sectors or occupations, which shall be, at the secondary level, aligned with the challenging State academic standards adopted by a State under section 1111(b)(1) of the ESEA;

(2) Provides technical skill proficiency or a recognized postsecondary credential which may include an industry-recognized credential, a certificate, or an associate degree; and

(3) May include prerequisite courses (other than a remedial course) that meet the requirements of this subparagraph;

(b) Include competency-based, work-based, or other applied learning that supports the development of academic knowledge, higher-order reasoning and problem-solving skills, work attitudes, employability skills, technical skills, and occupation-specific skills, and knowledge of all aspects of an industry, including entrepreneurship, of an individual;

(c) To the extent practicable, coordinate between secondary and postsecondary education programs through programs of study, which may include coordination through articulation agreements, early college high school programs, dual or concurrent enrollment program opportunities, or other credit transfer agreements that provide postsecondary credit or advanced standing; and

(d) May include career exploration at the high school level or as early as the middle grades (as such term is defined in section 8101 of the ESEA).

Career guidance and academic counseling means guidance and counseling that—

(a) Provides access for students (and parents, as appropriate) to information regarding career awareness and planning with respect to an individual's occupational and academic future; and

(b) Provides information with respect to career options, financial aid, and postsecondary options, including baccalaureate degree programs. Provides access for students (and, as appropriate, parents and out-of-school youth) to information regarding career awareness exploration opportunities and planning with respect to an individual's occupational and academic future; and

(c) May provide assistance for special populations with respect to direct support services that enable students to persist in and complete career and technical education, programs of study, or career pathways.

Credit transfer agreement means a formal agreement, such as an articulation agreement, among and between secondary and postsecondary education institutions or systems that grant students transcripted postsecondary credit, which may include credit granted to students in dual or concurrent enrollment programs, early college high school, dual credit, articulated credit, and credit granted on the basis of performance on technical or academic assessments.

CTE concentrator means—

(a) At the secondary school level, a student served by an eligible recipient who has completed at least two courses in a single CTE program or program of study; and

(b) At the postsecondary level, a student enrolled in an eligible recipient who has—

(1) Earned at least 12 credits within a CTE program or program of study; or

(2) Completed such a program if the program encompasses fewer than 12 credits or the equivalent in total.

CTE participant means an individual who completes not less than one course in a CTE program or program of study of an eligible recipient.

Dual or concurrent enrollment program means a program offered by a partnership between at least one IHE and at least one LEA through which a secondary school student who has not graduated from high school with a regular high school diploma is able to enroll in one or more postsecondary courses and earn postsecondary credit that—

(a) Is transferable to the IHEs in the partnership; and

(b) Applies toward completion of a degree or recognized educational credential as described in the HEA (20 U.S.C. 1001 et seq.).

Early college high school means a partnership between at least one LEA and at least one IHE that allows participants to simultaneously complete requirements toward earning a regular high school diploma and earn not less than 12 credits that are transferable to the IHEs in the partnership as part of an organized course of study toward a postsecondary degree or credential at no cost to the participant or participant's family.

Eligible entity means a consortium that includes the following:

(a) Representatives of not less than 2 of the following categories of entities, 1 of which shall serve as the fiscal agent for the consortium:

(1) An LEA or a consortium of such agencies.

(2) An educational service agency serving secondary school students.

(3) An area CTE school or a consortium of such schools.

(4) An Indian Tribe, Tribal organization, or Tribal educational agency.

(5) An IHE whose most common degree awarded is an associate degree, or a consortium of such institutions.

(6) An IHE whose most common degree awarded is a bachelor's or higher degree, or a consortium of such institutions.

(7) An SEA.

(b) One or more business or industry representative partners, which may include representatives of local or regional businesses or industries, including industry or sector partnerships in the local area, local workforce development boards, or labor organizations.

(c) One or more stakeholders, which may include—

(1) Parents and students;

(2) Representatives of local agencies serving out-of-school youth, homeless children and youth, and at-risk youth (as defined in section 1432 of the ESEA (20 U.S.C. 6472));

(3) Representatives of Indian Tribes and Tribal organizations, where applicable;

(4) Representatives of minority-serving institutions (as described in paragraphs (1) through (7) of section 371(a) of the HEA (20 U.S.C. 1067q (a)), where applicable;

(5) Representatives of special populations;

(6) Representatives of adult CTE providers; or

(7) Other relevant community stakeholders.

Eligible institution means—

(a) A consortium of 2 or more of the entities described in subparagraphs (b) through (f);

(b) A public or nonprofit private IHE that offers and will use funds provided under this title in support of CTE courses that lead to technical skill proficiency or a recognized postsecondary credential, including an industry-recognized credential, a certificate, or an associate degree;

(c) An LEA providing education at the postsecondary level;

(d) An area CTE school providing education at the postsecondary level;

(e) An Indian Tribe, Tribal organization, or Tribal education agency that operates a school or may be present in the State;

(f) A postsecondary educational institution controlled by the Bureau of Indian Education or operated by or on behalf of any Indian Tribe that is eligible to contract with the Secretary of the Interior for the administration of programs under the Indian Self-Determination and Education Assistance Act (25 U.S.C. 5301 et seq.) or the Act of April 16, 1934 (25 U.S.C. 5342 et seq.);

(g) A tribally controlled college or university; or

(h) An educational service agency.

Eligible recipient means—

(a) An LEA (including a public charter school that operates as an LEA), an area CTE school, an educational service agency, an Indian Tribe, Tribal organization, or Tribal educational agency or a consortium, eligible to receive assistance under section 131 of Perkins V; or

(b) An eligible institution or consortium of eligible institutions eligible to receive assistance under section 132 of Perkins V.

English learner means—

(a) A secondary school student who is an English learner, as defined in section 8101 of the ESEA; or

(b) An adult or an out-of-school youth who has limited ability in speaking, reading, writing, or understanding the English language and—

(i) whose native language is a language other than English; or

(ii) who lives in a family environment or community in which a language other than English is the dominant language.

Evidence-based, when used with respect to State, LEA, or school activity, means an activity, strategy, or intervention that—

(a) Demonstrates a statistically significant effect on improving student outcomes or other relevant outcomes based on—

(1) Strong evidence from at least 1 well-designed and well-implemented experimental study;

(2) Moderate evidence from at least 1 well-designed and well-implemented quasi-experimental study; or

(3) Promising evidence from at least 1 well-designed and well-implemented correlational study with statistical controls for selection bias; or

(b)(1) Demonstrates a rationale based on high-quality research findings or positive evaluation that such activity, strategy, or intervention is likely to improve student outcomes or other Relevant Outcomes; and

(2) Includes ongoing efforts to examine the effects of such activity, strategy, or intervention.

Note: This definition of evidence-based from section 3(23) of Perkins V and section 8101(21)(A) of the ESEA also applies to an eligible entity, an eligible institution, and an eligible recipient.

Historically Black colleges and universities means colleges and universities that meet the criteria set out in 34 CFR 608.2.

Independent evaluation means an evaluation that is designed and carried out independent of and external to the grantee but in coordination with any employees of the grantee who developed a project component that is currently being implemented as part of the grant activities.

Individual with a disability means—

(a) An individual with any disability (as defined in section 3 of the Americans with Disabilities Act of 1990 (42 U.S.C. 12102)).

(b) Individuals with disabilities means more than 1 individual with a disability.

Industry-recognized credential means a credential that is—

(a) Developed and offered by, or endorsed by, a nationally recognized industry association or organization representing a sizable portion of the industry sector, or a product vendor;

(b) Awarded in recognition of an individual's attainment of measurable technical or occupational skills; and

(c) Sought or accepted by multiple employers within an industry or sector as a recognized, preferred, or required credential for recruitment, hiring, retention, or advancement.

Institution of higher education (IHE) means—

(a) An educational institution in any State that—

(1) Admits as regular students only persons having a certificate of graduation from a school providing secondary education, or the recognized equivalent of such a certificate, or persons who meet the requirements of section 484(d)(3) of the HEA;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary for the granting of pre-accreditation status, and the Secretary has determined that there is satisfactory assurance that the institution will meet the accreditation standards of such an agency or association within a reasonable time.

(b) The term also includes:

(1) Any school that provides not less than a 1-year program of training to prepare students for gainful employment in a recognized occupation and that meets the provisions of paragraphs (1), (2), (4), and (5) of subsection (a) of this definition; and

(2) A public or nonprofit private educational institution in any State that, in lieu of the requirement in subsection (a)(1) of this definition, admits as regular students individuals—

(A) Who are beyond the age of compulsory school attendance in the State in which the institution is located; or

(B) Who will be dually or concurrently enrolled in the institution and a secondary school.

Local workforce development board means a local workforce development board established under section 107 of the WIOA (29 U.S.C. 3122).

Minority-serving institution means an institution that is eligible to receive assistance under sections 316 through 320 of part A of title III, under part B of title III, or under title V of the HEA.

Non-traditional fields means occupations or fields of work, such as careers in computer science, technology, and other current and emerging high skill occupations, for which individuals from one gender comprise less than 25 percent of the individuals employed in each such occupation or field of work.

Out-of-workforce individual means—

(a) An individual who is a displaced homemaker, as defined in section 3 of the WIOA (29 U.S.C. 3102); or

(b) An individual who—

(1)(i) Has worked primarily without remuneration to care for a home and family, and for that reason has diminished marketable skills; or

(ii) Is a parent whose youngest dependent child will become ineligible to receive assistance under part A of title IV of the Social Security Act (42 U.S.C. 601 et seq.) not later than 2 years after the date on which the parent applies for assistance under such title; and

(2) Is unemployed or underemployed and is experiencing difficulty in obtaining or upgrading employment.

Performance measure means any quantitative indicator, statistic, or metric used to gauge program or project performance.

Performance target means a level of performance that an applicant would seek to meet during the course of a project or as a result of a project.

Personalized postsecondary educational and career plan means a plan, developed by the student and, to the greatest extent practicable, the student's family or guardian, in collaboration with a school counselor or other individual trained to provide career guidance and academic counseling that is used to help establish personalized academic and career goals, explore postsecondary and career opportunities, identify programs of study and work-based learning that advance the student's personalized postsecondary education and career goals, including any comprehensive wraparound support services the student may need to participate in programs of study and work-based learning, and establish appropriate milestones and timelines for tasks important to preparing for success after high school, including applying for postsecondary education and student financial aid, preparing a resume, and completing applications for employment.

Postsecondary educational institution means—

(a) An IHE that provides not less than a 2-year program of instruction that is acceptable for credit toward a bachelor's degree;

(b) A tribally controlled college or university; or

(c) A nonprofit educational institution offering certificate or other skilled training programs at the postsecondary level.

Program of study means a coordinated, nonduplicative sequence of academic and technical content at the secondary and postsecondary level that—

(a) Incorporates challenging State academic standards, including those adopted by a State under section 1111(b)(1) of the ESEA;

(b) Addresses both academic and technical knowledge and skills, including employability skills;

(c) Is aligned with the needs of industries in the economy of the State, region, Tribal community, or local area;

(d) Progresses in specificity (beginning with all aspects of an industry or career cluster and leading to more occupation-specific instruction);

(e) Has multiple entry and exit points that incorporate credentialing; and

(f) Culminates in the attainment of a recognized postsecondary credential.

Project Component means an activity, strategy, intervention, process, product, practice, or policy included in a project. Evidence may pertain to an individual project component or to a combination of project components (e.g., training teachers on instructional practices for English learners and follow-on coaching for these teachers).

Qualified intermediary means a nonprofit entity, which may be part of an industry or sector partnership, that demonstrates expertise in building, connecting, sustaining, and measuring partnerships with entities such as employers, schools, community-based organizations, postsecondary institutions, social service organizations, economic development organizations, Indian Tribes or Tribal organizations, and workforce systems to broker services, resources, and supports to youth and the organizations and systems that are designed to serve youth, including—

(a) Connecting employers to classrooms;

(b) Assisting in the design and implementation of CTE programs and programs of study;

(c) Delivering professional development;

(d) Connecting students to internships and other Work-Based Learning opportunities; and

(e) Developing personalized student supports.

Rural community means an area served by an LEA with an urban-centric district locale code of 32, 33, 41, 42, or 43, as determined by the Secretary and defined by the National Center for Education Statistics (NCES) Locale framework.

Recognized postsecondary credential means a credential consisting of an industry-recognized certificate or certification, a certificate of completion of an apprenticeship, a license recognized by the State involved or Federal Government, or an associate or baccalaureate degree.

Relevant outcome means the student outcome(s) or other outcome(s) the key project component is designed to improve, consistent with the specific goals of the program.

Special populations means—

(a) Individuals with disabilities;

(b) Individuals from economically disadvantaged families, including low-income youth and adults;

(c) Individuals preparing for non-traditional fields;

(d) Single parents, including single pregnant women;

(e) Out-of-workforce individuals;

(f) English learners;

(g) Homeless individuals described in section 725 of the McKinney-Vento Homeless Assistance Act (42 U.S.C. 11434a);

(h) Youth who are in, or have aged out of, the foster care system; and

(i) Youth with a parent who—

(1) Is a member of the armed forces (as such term is defined in section 101(a)(4) of title 10, United States Code); and

(2) Is on active duty (as such term is defined in section 101(d)(1) of such title).

Tribal College or University has the meaning ascribed it in section 316(b)(3) of the HEA.

Underserved student means a student (which may include children in early learning environments, students in K-12 programs, students in postsecondary education or CTE, and adult learners, as appropriate) in one or more of the following subgroups:

(a) A student who is living in poverty or is served by schools with high concentrations of students living in poverty.

(b) A student of color.

(c) A student who is a member of a federally recognized Indian Tribe.

(d) An English learner.

(e) A child or student with a disability.

(f) A student experiencing homelessness or housing insecurity.

(g) A student who is in foster care.

(h) A military- or veteran-connected student.

(i) A pregnant, parenting, or caregiving student.

Work-based learning means sustained interactions with industry or community professionals in real workplace settings, to the extent practicable, or simulated environments at an educational institution that foster in-depth, firsthand engagement with the tasks required of a given career field, that are aligned to curriculum and instruction.

Program Authority: Section 114(e) of the Carl D. Perkins Career and Technical Education Act of 2006, as amended by the Strengthening Career and Technical Education for the 21st Century Act (Perkins V) (20 U.S.C. 2324).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) the Supplemental Priorities. (e) The NFP.

Note: The regulations in 34 CFR part 86 apply to IHEs only.

II. Award Information

Type of Award: Discretionary grants.

Estimated Available Funds: $24,250,000.

Contingent upon the availability of funds and the quality of applications, we may make additional awards in subsequent years from the list of unfunded applications from this competition.

Estimated Range of Awards: $1,100,000-$1,475,000 for each 12-month project period (i.e., a total of approximately $3,425,000-$4,425,000 over the full potential 36-month project period).

Estimated Average Size of Awards: $1,300,000 for each 12-month project period.

Estimated Number of Awards: 10-20.

Note: The Department is not bound by any estimates and does not set a maximum award in this notice.

Project Period: Up to 36 months, with potential for renewal of up to an additional 24 months.

Note: Under section 114(e)(5) of Perkins V, the Department must use at least 25 percent of PIM program grant funds per fiscal year to make awards to applicants serving rural areas, contingent on receipt of a sufficient number of applications of sufficient quality. For purposes of this competition, we will consider an applicant as rural if the applicant meets the qualifications for rural applicants established in section 114(e)(5)(A) of Perkins V, and the applicant meets Absolute Priority 3. In implementing this statutory provision and Absolute Priority 3, the Department may fund high-quality applications from rural applicants out of overall rank order, though the Department is not bound to do so.

III. Eligibility Information

1. Eligible Applicants: The following entities are eligible to apply under this competition:

(a) An eligible entity.

(b) An eligible institution.

(c) An eligible recipient.

Note: An eligible entity must comply with the regulations in 34 CFR 75.127 through 75.129, which address group applications.

2. Rural Applicants: To qualify as a rural applicant under section 114(e)(5)(A) of Perkins V, an applicant must meet Absolute Priority 3.

Note: For the purposes of meeting the statutory rural set-aside, an applicant must meet the requirements as listed above and provide the necessary locale codes in its grant application. Applicants are encouraged to retrieve locale codes from the NCES School District search tool (https://nces.ed.gov/ccd/districtsearch/), where districts can be looked up individually to retrieve locale codes.

3. a. Cost Sharing or Matching: Under section 114(e)(2) of Perkins V, each grant recipient must provide, from non-Federal sources (e.g., State, local, or private sources), an amount equal to not less than 50 percent of funds provided under the grant, which may be provided in cash or through in-kind contributions, to carry out activities supported by the grant. Perkins V authorizes the Secretary to waive the matching requirement on a case-by-case basis upon demonstration of exceptional circumstances. Program Requirement 1—Matching Contributions and Application Requirement (b)—Demonstration of Matching Funds provide guidance on the matching requirement. Consistent with 2 CFR 200.306(b), any matching funds must be an allowable use of funds consistent with the cost principles detailed in Subpart E of the Uniform Guidance, and not included as a contribution for any other Federal award.

b. Supplement-not-Supplant: This program is subject to supplement-not-supplant funding requirements. In accordance with section 211(a) of Perkins V, funds under this program may not be used to supplant non-Federal funds used to carry out CTE activities. Further, the prohibition against supplanting also means that grantees will be required to use their negotiated restricted indirect cost rates under this program. (34 CFR 75.563)

c. Indirect Cost Rate Information: This program uses a restricted indirect cost rate. For more information regarding indirect costs, or to obtain a negotiated indirect cost rate, please see https://www2.ed.gov/about/offices/list/ocfo/intro.html.

d. Administrative Cost Limitation: This program does not include any program-specific limitation on administrative expenses. All administrative expenses must be reasonable and necessary and conform to Cost Principles described in 2 CFR part 200 subpart E of the Uniform Guidance.

4. Subgrantees: Under 34 CFR 75.708(b) and (c), a grantee under this competition may award subgrants to directly carry out project activities described in its application to the following types of entities: IHEs, LEAs, non-profit organizations, qualified intermediaries, or SEAs. The grantee may only award subgrants to entities it has identified in an approved application.

5. Extensions: Under section 114(e)(6)(b) of Perkins V, the Secretary may extend a grant awarded under this section for up to 2 additional years if the grantee demonstrates to the Secretary that the project is achieving the grantee's program objectives and has improved education outcomes for CTE students, including special populations.

Note: Applicants must submit annual budgets for a 60-month project period. During the third year of the project period for grants awarded under this competition, if the Department exercises the option to offer an opportunity for extensions, the Department will provide grantees with information on the extension process. In making decisions on whether to award a 2-year extension award, we intend to review performance data submitted in regularly required reporting, as well as potentially request other information about the grantee's progress in implementing its project.

IV. Application and Submission Information

1. Application Submission Instructions: Applicants are required to follow the Common Instructions for Applicants to Department of Education Discretionary Grant Programs, published in the Federal Register on December 7, 2022 (84 FR 3768), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the PIM competition, your application may include business information that you consider proprietary. In 34 CFR 5.11 we define “business information” and describe the process we use in determining whether any of that information is proprietary and, thus, protected from disclosure under Exemption 4 of the Freedom of Information Act (5 U.S.C. 552, as amended). Because we may make successful applications available to the public, you may wish to request confidentiality of business information. Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We specify unallowable costs in 2 CFR 200, subpart E. We reference regulations outlining funding restrictions in the Applicable Regulations section of this notice.

5. Recommended Page Limit: The application narrative is where you, the applicant, address the selection criteria that reviewers use to evaluate your application. We recommend that you (1) limit the application narrative to no more than 35 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, or Arial.

The recommended page limit does not apply to the cover sheet; the budget section, including the narrative budget justification; the assurances and certifications; or the one-page abstract, the resumes, the bibliography, the letters of support, or any request for a waiver of the matching requirement. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this program are from the NFP and 34 CFR 75.210. The maximum score for selection criteria (a) through (e) is 100 points. The maximum score for each criterion is indicated in parentheses. In addressing the criteria, applicants are encouraged to make explicit connections to the priorities and requirements listed elsewhere in this notice. Only applicants that meet Absolute Priority 3 will receive scores for selection criterion (f) (up to 10 additional points). Points awarded under these selection criteria are in addition to any points an applicant earned under the competitive preference priorities in this notice.

The selection criteria for this competition are as follows:

(a) Significance (up to 6 points).

In determining the significance of the proposed project, the Department considers the following factors:

(1) The extent to which the proposed project addresses a regional or local labor market need identified through a comprehensive local needs assessment carried out under section 134(c) of Perkins V or labor market information produced by the State or other entity that demonstrates the proposed project will address State, regional, or local labor market needs (up to 3 points).

(2) The extent to which the proposed project addresses significant barriers to enrollment and completion in dual or concurrent enrollment programs and will expand access to these programs for students served by the project (up to 3 points).

(b) Quality of the Project Design (up to 44 points).

In determining the quality of the project design, the Department considers the following factors:

(1) The extent to which the proposed project is likely to be effective in increasing the attainment of postsecondary credits earned through participation in dual or concurrent enrollment programs by students who are not currently participating in such programs, and the likely magnitude of the increase (up to 8 points).

(2) The extent to which the proposed project will increase the successful participation in work-based learning opportunities for which they received wages or academic credit, or both, prior to graduation by students who are not currently participating in such opportunities, and the likely magnitude of the increase (up to 8 points).

(3) The extent to which the proposed project is likely to be effective in increasing successful participation in opportunities to attain an in-demand and high-value industry-recognized credential that is sought or accepted by multiple employers within an industry or sector as a recognized, preferred, or required credential for recruitment, hiring, retention, or advancement by students who are not currently participating in such opportunities, and the likely magnitude of the increase (up to 8 points).

(4) The extent to which the proposed project will implement strategies that are likely to be effective in eliminating or mitigating barriers to the successful participation by all students in dual or concurrent programs, work-based learning opportunities, and opportunities to attain in-demand and high-value industry-recognized credentials, including such barriers as the out-of-pocket costs of tuition, books, and examination fees; transportation; and eligibility requirements that do not include multiple measures of assessing academic readiness (up to 8 points).

(5) The extent to which the proposed project will provide all students effective and ongoing career guidance and academic counseling in each year of high school that—

(A) Will likely result, by no later than the end of the second year of the project, in a personalized postsecondary education and career plan for each student that is updated at least once annually with the assistance of a school counselor, career coach, mentor, or other adult trained to provide career guidance and counseling to high school students (up to 6 points); and

(B) Includes the provision of current labor market information about careers in high-demand fields that pay living wages; advice and assistance in identifying, preparing for, and applying for postsecondary educational opportunities; information on Federal student financial aid programs; and assistance in applying for Federal student financial aid (up to 2 points).

(6) The extent to which the proposed project is likely to prepare all students served by the project to enroll in postsecondary education following high school without need for remediation (up to 4 points).

(c) Quality of Project Services (up to 8 points).

(1) In determining the quality of the services to be provided by the proposed project, the Department considers the quality and sufficiency of strategies for ensuring equal access and treatment for eligible project participants who are members of groups that have traditionally been underrepresented based on race, color, national origin, gender, age, or disability.

(2) In addition, the Department considers the extent to which the services to be provided by the proposed project are focused on those with greatest needs.

(d) Quality of the Management Plan (up to 32 points).

In determining the quality of the management plan, the Department considers the following factors:

(1) The extent to which the project goals are clear, complete, and coherent, and the extent to which the project activities constitute a complete plan aligned to those goals, including the identification of potential risks to project success and strategies to mitigate those risks (up to 7 points);

(2) The extent to which the management plan articulates key responsibilities for each party involved in the project and also articulates well-defined objectives, including the timelines and milestones for completion of major project activities, the metrics that will be used to assess progress on an ongoing basis, and annual performance targets the applicant will use to monitor whether the project is achieving its goals (up to 7 points);

(3) The adequacy of the project's staffing plan, particularly for the first year of the project, including:

(A) The identification of the project director and, in the case of projects with unfilled key personnel positions at the beginning of the project, a description of how critical work will proceed (up to 3 points); and

(B) The extent to which the project director has experience managing projects similar in scope to that of the proposed project (up to 3 points).

(4) The extent of the demonstrated commitment of any partners whose participation is critical to the project's long-term success, including the extent of any evidence of support or specific resources from employers and other stakeholders (up to 6 points).

(5) The extent to which employers in the labor market served by the proposed project will be involved in making decisions with respect to the project's implementation and in carrying out its activities (up to 6 points).

(e) Quality of the Project Evaluation (up to 10 points).

In determining the quality of the evaluation, the Secretary considers the following factors:

(1) The extent to which the methods of evaluation will provide valid and reliable performance data on relevant outcomes (up to 5 points); and

(2) The extent to which the methods of evaluation will provide performance feedback and permit periodic assessment of progress toward achieving intended outcomes (up to 5 points).

Note: Applicants may wish to review the following technical assistance resources on evaluation: (1) The What Works Clearinghouse (WWC) Procedures and Standards Handbooks: https://ies.ed.gov/ncee/wwc/Handbooks; (2) “Technical Assistance Materials for Conducting Rigorous Impact Evaluations”: http://ies.ed.gov/ncee/projects/evaluationTA.asp; and (3) IES/NCEE Technical Methods papers: http://ies.ed.gov/ncee/tech_methods/.

In addition, applicants may view a webinar recording that was hosted by the Institute of Education Sciences, focused on more rigorous evaluation designs, discussing strategies for designing and executing experimental studies that meet WWC evidence standards without reservations. This webinar is available at: http://ies.ed.gov/ncee/wwc/Multimedia.aspx?sid=18.

(f) Support for Rural Communities (up to 10 points).

In determining the extent of the project's support for rural communities, the Department considers the following factors:

(1) The extent to which the applicant presents a clear, well-documented plan for primarily serving students from rural communities (up to 3 points); and

(2) The extent to which the applicant proposes a project that will improve the education and employment outcomes of students in rural communities (up to 7 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments. Peer reviewers will read, prepare a written evaluation of, and score the assigned applications, using the selection criteria provided in this notice.

Additional factors we consider in selecting an application for an award are as follows:

(a) As required under section 114(e)(5) of Perkins V, the Secretary will award no less than 25 percent of the total available funds for any fiscal year to eligible entities, eligible institutions, or eligible recipients proposing to fund CTE activities that serve—

(1) An LEA with an urban-centric district locale code of 32, 33, 41, 42, or 43, as determined by the Secretary;

(2) An IHE primarily serving one or more areas served by such an LEA;

(3) A consortium of such LEAs or such IHEs;

(4) A partnership between—

(A) An educational service agency or a nonprofit organization; and

(B) Such an LEA or such an IHE; or

(5) A partnership between—

(A) A grant recipient described in clause (1) or (2); and

(B) An SEA.

(b) The Secretary will reduce the amount of funds made available under such clause if the Secretary does not receive a sufficient number of applications of sufficient quality.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General:

In accordance with OMB's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For purposes of Department reporting under 34 CFR 75.110, the Department has developed the following performance measures for this program.

Each grantee will be required to conduct an independent evaluation (and submit an annual report) that includes a description of how PIM grant funds were used; student outcomes, as applicable, using the Perkins V section 113 core indicators of performance; and a quantitative analysis of the effectiveness of the PIM grant project.

Additionally, under Program Requirement 3, all grantees will be required to propose performance targets consistent with the objectives of the proposed project and report annually the number and percentage of students who graduated from high schools served by the proposed project who, prior to or upon graduation—

(1) Earned, through their successful participation in dual or concurrent enrollment programs in academic or CTE subject areas—

(i) any postsecondary credits; and, separately,

(ii) 12 or more postsecondary credits that are part of a program of study that culminates with an associate, bachelor's, or advanced degree, or completion of a Registered Apprenticeship Program.

(2) Completed 40 or more hours of work-based learning for which they received wages or academic credit, or both.

(3) Attained an industry-recognized credential that is in-demand in the local, regional, or State labor market and associated with one or more jobs with median earnings that exceed the median earnings of a high school graduate.

(4) Met, in each year of high school, with a school counselor, college adviser, career coach, or other appropriately trained adult for education and career counseling during which they reviewed and updated a personalized postsecondary educational and career plan (as defined in this notice).

(b) The outcomes described in paragraph (a) must be disaggregated by—

(1) Subgroups of students described in section 1111(c)(2)(B) of the ESEA; and

(2) Special populations;

(3) Sex; and

(4) Each CTE program and program of study.

(c) The independent evaluation supported by a grantee must report annually on the extent to which CTE participants and CTE concentrators in each CTE program or program of study reflect the demographics of the school, including sex, major racial and ethnic groups, and special populations status.

(d) The independent evaluation supported by a grantee must also report annually on the average number of postsecondary credits earned by students through their successful participation in dual or concurrent enrollment programs in academic or career and technical education subject areas and any project-specific indicators identified by the grantee.

Project-Specific Performance Measures:

Applicants must propose project-specific performance measures and performance targets consistent with the objectives of the proposed project.

Applications must provide the following information as directed under 34 CFR 75.110(b) and (c):

(a) Performance Measures. How each proposed performance measure would accurately measure the performance of the project and how the proposed performance measures would be consistent with the performance measures established for the program funding the competition.

(b) Baseline Data.

(i) Why each proposed baseline is valid; or

(ii) If the applicant has determined that there are no established baseline data for a particular performance measure, an explanation of why there is no established baseline and of how and when, during the project period, the applicant would establish a valid baseline for the performance measure.

(c) Performance Targets. Why each proposed performance target is ambitious yet achievable compared to the baseline for the performance measure and when, during the project period, the applicant would meet the performance target(s).

(d) Data Collection and Reporting.

(i) The data collection and reporting methods the applicant would use and why those methods are likely to yield reliable, valid, and meaningful performance data; and

(ii) The applicant's capacity to collect and report reliable, valid, and meaningful performance data, as evidenced by high-quality data collection, analysis, and reporting in other projects or research.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Luke Rhine,
Deputy Assistant Secretary, Delegated the Duties of the Assistant Secretary for Career, Technical, and Adult Education.

[FR Doc. 2023-17226 Filed 8-11-23; 8:45 am]

BILLING CODE 4000-01-P